COMMITTEE FOR THE IMPLEMENTATION OF TEXTILE AGREEMENTS

Determination Under the African Growth and Opportunity Act

September 10, 2003.

AGENCY: Committee for the Implementation of Textile Agreements.

ACTION: Directive to the Commissioner of Customs.

SUMMARY: The Committee for the Implementation of Textile Agreements (CITA) has determined that certain textile and apparel goods from Ghana shall be treated as “handloomed, handmade, or folklore articles” and qualify for preferential treatment under the African Growth and Opportunity Act. Imports of eligible products from Ghana with an appropriate visa will qualify for duty-free treatment.

EFFECTIVE DATE: September 15, 2003.

FOR FURTHER INFORMATION CONTACT: Anna Flaaten, International Trade Specialist, Office of Textiles and Apparel, U.S. Department of Commerce, (202) 782-3400.

SUPPLEMENTARY INFORMATION: The African Growth and Opportunity Act (Title I of the Trade and Development Act of 2000, Public Law 106-200) (AGOA) provides preferential tariff treatment for imports of certain textile and apparel products of beneficiary sub-Saharan African countries, including handloomed, handmade, or folklore articles of a beneficiary country that are certified as such by the competent authority in the beneficiary country. In Executive Order 13191, the President authorized CITA to consult with beneficiary sub-Saharan African countries and to determine which, if any, particular textile and apparel goods shall be treated as being handloomed, handmade, or folklore articles. (66 FR 7272)

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, handloomed, or folklore articles.

CITA has consulted with Ghanaian authorities, and has determined that handloomed fabrics, handloomed articles (e.g., handloomed rugs, scarves, place mats, and tablecloths), handmade articles made from handloomed fabrics, and the folklore articles described in the annex to this notice, if produced in and exported from Ghana, are eligible for preferential tariff treatment under section 112(a) of the AGOA. In the letter published below, CITA directs the Commissioner of Customs and Border Protection to allow duty-free entry of such products under U.S. Harmonized Tariff Schedule subheading 9819.11.27 if accompanied by an appropriate AGOA visa in grouping “9”.

D. Michael Hutchinson,
Acting Chairman, Committee for the Implementation of Textile Agreements.

Committee for the Implementation of Textile Agreements

Commissioner of Customs and Border Protection,

Department of Homeland Security, Washington, DC 20229.

Dear Commissioner: The Committee for the Implementation of Textiles Agreements (CITA), pursuant to Sections 112(a) of the African Growth and Opportunity Act (Title I of Pub. L. No. 106-200) (AGOA) and Executive Order 13191 of January 17, 2001, has determined, effective on September 15, 2003, that the following articles shall be treated as “handloomed, handmade, and folklore articles” under the AGOA: (a) handloomed fabrics, handloomed articles (e.g., handloomed rugs, scarves, placemats, and tablecloths), and hand-made articles made from handloomed fabrics, if made in Ghana from fabric handloomed in Ghana; and (b) the folklore articles described in the attachment to this letter if made in Ghana. Such articles are eligible for duty-free treatment only if entered under subheading 9819.11.27 and accompanied by a properly completed visa for product grouping “9”, in accordance with the provisions of the Visa Arrangement between the Government of Ghana and the Government of the United States Concerning Textile and Apparel Articles Claiming Preferential Tariff Treatment under Section 112 of the Trade and Development Act of 2000. After additional consultations with Ghanaian authorities, CITA may determine that other textile and apparel goods shall be treated as handloomed, handmade, or folklore articles.

Sincerely,

D. Michael Hutchinson,

Acting Chairman, Committee for the Implementation of Textile Agreements.

Attachment

Annex

CITA has determined that the following textile and apparel goods shall be treated as folklore articles for purposes of the AGOA. Articles must be ornamented in characteristic Ghanaian or regional folk style. An article may not include modern features such as zippers, elastic, elasticized fabrics, or hook-and-pile fasteners (such as velcro or similar holding fabric). An article may not incorporate patterns that are not traditional or historical to Ghana, such as airplanes, buses, cowboys, or cartoon characters and may not incorporate designs referencing holidays or festivals not common to traditional Ghanaian culture, such as Halloween and Thanksgiving.

1. Kente Stole

Kente is a thin strip of handloomed fabric, usually about 4 to 6 inches wide and 3 yards long. This stole can either be composed of a single strip of such kente fabric or multiple strips of kente fabric sewn together to make a wider stole to a standard length of 6 yards for women or 12 yards for men. Designs vary from colorful to plain, intricate to simple, can be done in a patchwork style (alternating blocks), contain decorative metallic threads, and have an elaborate border. Patterns vary and are usually colorful. The handloomed kente fabric used in a stole can also be a single color, traditionally dyed with vegetable dyes.

The kente stole that consists of multiple strips of such handloomed kente strips sewn together are either hand-stitched or machine sewn.

2. Adinkra

Made of handloomed fabric, usually about 4 to 6 inches wide and 3 yards long. The cotton fabric is usually plain white or brown and woven on a traditional handloom, an adinkra is a fabric that is draped around the body. The standard length is 6 yards for women and 12 yards for men. Adinkra is usually traditionally dyed a single color with vegetable dyes.

3. Agbada

Agbadas are loose fitting garments traditionally worn by men for more formal occasions, in either 2-piece, 3-piece or 4-piece sets, consisting of some or all of the following: (a) inner tunic gown, (b) trousers, (c) outer gown, (d) cap. This garment can be made from woven fabric of any weight and vary in color and design.

(a) Loose fitting, three-quarter length, embroidered tunic inner gown. Sleeves may or may not be present, and may vary in length. Patterns and colors vary, but there is usually intricate embroidery around the neckline. The neckline can be round or have a slit down the center front. May or may not have pockets.

(b) The trousers may be long or three-quarter length and are secured at the waist by a drawstring, are loose-fitting with extra-fullness at the thighs and may contain side seam pockets.

(c) Loose flowing, non-tailored, embroidered outer gown is full length, and may have pockets, oftentimes located mid-way down the garment under the embroidery on the neckline. The neckline can be round, v-shaped, be asymmetrically v-shaped, or have a slit down the center front.

(d) The matching cap can be cylindrical or cone-shaped, with or without tassel, fitted or floppy.

4. Batakari/Fugu

Generally from the culture in the north of Ghana, 2-piece, 3-piece or 4-piece sets consisting of some or all of the following: (a) inner smock (b) trousers, (c) outer smock (d) and cap. The batakari is made of handloomed strips of kente fabric, approximately 4 inches in width, sewn together, either by machine or hand-stitched. The handloomed strips of fabric tend to be plaid-patterned. A “batakari” is also called a “fugu” or a “smock” depending on the region in which it originates in the northern part of Ghana.

(a) Loose fitting, three-quarter length, embroidered inner smock. Sleeves may or may not be present, and may vary in length. Patterns and colors vary, but there is usually intricate embroidery around the neckline. The neckline can be round, v-shaped, or have a slit down the center front. May or may not have pockets. Tends to be pleated and flare halfway down the garment.

(b) The trousers may be long or three-quarter length and are secured at the waist by a drawstring, are loose-fitting with extra-fullness at the thighs and may have side seam pockets.

(c) Loose flowing, non-tailored, embroidered outer smock is three-quarter to full length, can have pockets, oftentimes located mid-way down the garment under the embroidery on the neckline, may be pleated and flare halfway down the garment. The neckline can be round, v-shaped, be asymmetrically v-shape, or have a slit down the center front. Tends to be pleated and flare halfway down the garment.

(d) The matching cap can be cylindrical or cone-shaped, with or without tassel, fitted or floppy.

5. Kaftan

One-piece, loose-fitting, straight-seamed, long or three-quarter length garment is ornamented, such as embroidered at the neckline, traditionally worn by women. The neckline can be round, v-shaped, or have a slit down the center front. Sleeves vary in length. The garment may or may not have slits on each side (from the bottom hem upwards). Can include matching strip of fabric to be worn in hair or as a shawl. This garment can be made from woven fabric of any weight and vary in color and design. May or may not have pockets.

6. Joromi (Men's shirt)

Loose fitting, straight-seamed shirt. Sleeves may or may not be present and may vary in length. Patterns and colors vary, usually with intricate ornamentation, such as embroidery, around the neckline. The neckline can be round or have a slit down the center front, but does not have a collar. May or may not have pockets. May have wooden button fastenings below the neckline.

[FR Doc. 03-23454 Filed 9-12-03; 8:45 am]

BILLING CODE 3510-DR-U